ENVIRONMENTAL PROTECTION AGENCY

40 CFR Part 52

[EPA-R03-OAR-2011-0998; FRL-9625-9]

Approval and Promulgation of Air Quality Implementation Plans; Delaware; Amendments to the Handling, Storage, and Disposal of Volatile Organic Compounds Emissions

AGENCY: Environmental Protection Agency (EPA).

ACTION: Proposed rule.

SUMMARY: EPA is proposing to approve a State Implementation Plan (SIP) revision submitted by the State of Delaware. This SIP revision amends the control of volatile organic compound (VOC) emissions from industrial cleaning solvents facilities, automobile and light-duty truck coating operations, paper, film, foil coating units, flat wood paneling products, and flexible packaging printing presses. This action is being taken under the Clean Air Act (CAA).

DATES: Written comments must be received on or before March 5, 2012.

ADDRESSES: Submit your comments, identified by Docket ID Number EPA-R03-OAR-2011-0998 by one of the following methods:

A. www.regulations.gov. Follow the on-line instructions for submitting comments.

B. Email: fernandez.cristina@epa.gov.

C. Mail: EPA-R03-OAR-2011-0998, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2011-0998. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Delaware Department of Natural Resources and Environmental Control, 89 Kings Highway, P.O. Box 1401, Dover, Delaware 19903.

FOR FURTHER INFORMATION CONTACT: Gregory Becoat, (215) 814-2036, or by email at becoat.gregory@epa.gov.

SUPPLEMENTARY INFORMATION: On June 20, 2011, EPA received a revision to the Delaware SIP submitted by the Delaware Department of Natural Resources and Environmental Control (DNREC). The SIP revision updates regulations in 7 DE Admin. Code 1124—Control of Volatile Organic Compound Emissions to implement reasonably available control technology (RACT) controls on emission sources covered by EPA's control techniques guidelines (CTG).

I. Background

Section 182(b)(2) of the CAA requires all ozone nonattainment areas, including Delaware, to update relevant regulations for RACT controls for emission sources covered by EPA's CTG and to submit the regulations to EPA as SIP revisions. The SIP revision amends section 8.0, “Handling, Storage, and Disposal of Volatile Organic Compounds,” section 13.0, “Automobile and Light-Duty Truck Coating Operations,” section 16.0, “Paper Coating,” section 23.0, “Coating of Flat Wood Paneling,” section 37.0, “Graphic Art Systems,” and section 45.0, “Industrial Cleaning Solvents,” to reflect technology developments and expand VOC emission controls.

Sections 8.0, 13.0, 16.0, 23.0, 37.0, and 45.0 of 7 DE Admin. Code 1124 were originally developed in the 1990's based on EPA's CTGs. From September 2006 to September 2008, EPA updated relevant CTGs affecting these sections to reflect technology developments and expand VOC emission controls. As a result, DNREC revised these to reflect the new requirements in EPA's CTGs into existing Delaware Regulation 1124.

II. Summary of SIP Revision

DNREC's SIP revision to section 8.0 establishes a (1) new VOC content limit applicable for cleaning solvents used in facilities regulated under Regulation 1124; (2) adds definitions and terms; (3) establishes exemptions; (4) updates existing work practice standards; (5) establishes control requirements; and (6) establishes test methods, procedures and recordkeeping requirements based on EPA CTGs.

Amendments to section 13.0 establish (1) applicability for specific automobile and light-duty truck coating operations; (2) specify a transition period for existing permitted sources for every owner or operator of any automobile or light-duty truck assembly plant; (3) add and update definitions and terms; (4) update daily-weighted average limitation and control devices; (5) update compliance procedures; (6) and update test methods, procedures and recordkeeping requirements.

The SIP revision amends section 16.0 to (1) add “Film, and Foil,” now entitled “Paper, Film, and Foil Coating; (2) establish applicability to any paper, film, or foil coating unit; (3) add exemptions for any coating unit in-line with any offset lithographic, screen, letterpress, flexographic, rotogravure, or digital printing operations; (4) add a transition period for existing permitted sources for every owner or operator of any paper coating unit; (5) add and update definitions and terms; (6) set VOC content limit standards; (7) update daily-weighted average limitation and control devices; (8) and update recordkeeping and reporting requirements.

DNREC's SIP revision to section 23.0 adds (1) tileboard panels and exterior sidings to the flat wood paneling product category and establishes VOC emission limits; (2) establishes more stringent emission limits to previously existing flat wood paneling products: Printed interior panels, natural finish panels, and Class II finish panels; (3) sets requirements that no owner or operator of a flat wood paneling coating line subject to the regulation for flat wood paneling coating shall allow VOC emissions in excess of the emission limits in Table 1 below; (4) deletes a regulation that did not require Class I hardboard paneling finishes, particle board used in furniture, insulation board, exterior siding, tileboard, and softwood plywood coating lines to apply to flat wood paneling coating standards; (5) adds work practice standards; (6) updates control devices; and (7) updates test methods and efficiency of control systems, and recordkeeping and reporting requirements.

Table 1—VOC Emission Limits From Flat Wood Paneling Coatings
Flat wood paneling product category | VOC content limits in coatings, inks, or adhesives being applied: pounds/gallon (lb/gal) | VOC content limits in coatings, inks, or adhesives being applied: grams/liter (g/L)
Printed interior panels made of hardwood, plywood, or thin particleboard | *2.1 | 250
Natural finish hardwood plywood panels | 2.1 | 250
Class II finishes on hardboard panels | 2.1 | 250
Tileboard | 2.1 | 250
Exterior siding | 2.1 | 250
* This limit of 2.1 lb/gal is equivalent to 5.0 lb VOC per 1,000 square feet coating area.

Amendments to section 37.0 establish (1) provisions for flexible packaging printing presses; (2) add a transition period for existing permitted sources for every owner or operator of any flexible package printing facility; (3) add definitions and terms; (4) establish efficiency requirements for control systems to be installed on the flexible packaging printing presses; and (5) update recordkeeping and reporting requirements.

The SIP revision amends section 45.0 to update the applicability for the industrial use of organic cleaning solvents and clarify that the requirements of section 45.0 are triggered based on a limit of VOC emissions rather than cleaning solvent used. A detailed summary of EPA's review and rationale for proposing to approve this SIP revision may be found in the Technical Support Document (TSD) for this action which is available on-line at www.regulations.gov, Docket number EPA-R03-OAR-2011-0998.

III. Proposed Action

EPA is proposing to approve the Delaware SIP revision for the control of VOC emissions from industrial cleaning solvents facilities, automobile and light-duty truck coating operations, paper, film, foil coating units, flat wood paneling products, and flexible packaging printing presses. (7 DE Admin Code 1124, sections 8.0, 13.0, 16.0, 23.0, 37.0, and 45.0) submitted on June 20, 2011. EPA is soliciting public comments on the issues discussed in this document. These comments will be considered before taking final action.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule, pertaining to Delaware's Regulation 7 DE Admin. Code 1124—Control of Volatile Organic Compound Emissions, does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Ozone, Reporting and recordkeeping requirements, Volatile organic compounds.

Authority: 42 U.S.C. 7401 et seq.

Dated: January 17, 2012.
W.C. Early,
Acting Regional Administrator, Region III.

[FR Doc. 2012-2333 Filed 2-1-12; 8:45 am]

BILLING CODE 6560-50-P